DEPARTMENT OF ENERGY

Federal Energy Regulatory Commission

Combined Notice of Filings #1

Take notice that the Commission received the following exempt wholesale generator filings:

Docket Numbers: EG22-212-000.

Applicants: Sun Valley Solar LLC.

Description: Sun Valley Solar LLC submits Notice of Self-Certification of Exempt Wholesale Generator Status.

Filed Date: 8/30/22.

Accession Number: 20220830-5021.

Comment Date: 5 p.m. ET 9/20/22.

Take notice that the Commission received the following Complaints and Compliance filings in EL Dockets:

Docket Numbers: EL22-17-000.

Applicants: National Grid, Niagara Mohawk Power Corporation.

Description: Niagara Mohawk Power Corporation d/b/a National Grid submits Filing to Comply with Condition in March 11, 2022 Order and Request for Commission Order Within 45 Days for the Smart Path Connect Project.

Filed Date: 8/23/22.

Accession Number: 20220823-5102.

Comment Date: 5 p.m. ET 9/7/22.

Take notice that the Commission received the following electric rate filings:

Docket Numbers: ER20-1992-003.

Applicants: Public Service Company of New Mexico.

Description: Compliance filing: PNM Compliance Filing with July 1, 2022 Order to be effective 1/27/2020.

Filed Date: 8/30/22.

Accession Number: 20220830-5099.

Comment Date: 5 p.m. ET 9/20/22.

Docket Numbers: ER20-2101-000.

Applicants: Fern Solar LLC.

Description: Amendment to July 26, 2022 Notice of Change in Status of Fern Solar LLC.

Filed Date: 8/24/22.

Accession Number: 20220824-5085.

Comment Date: 5 p.m. ET 9/14/22.

Docket Numbers: ER21-955-003.

Applicants: California Independent System Operator Corporation.

Description: Compliance filing: 2022-08-30 Petition for Limited Tariff Waiver to be effective N/A.

Filed Date: 8/30/22.

Accession Number: 20220830-5051.

Comment Date: 5 p.m. ET 9/20/22.

Docket Numbers: ER22-1846-001.

Applicants: Southwest Power Pool, Inc.

Description: Tariff Amendment: Deficiency Response—Waiver of Base Plan Allocation Methodology to be effective 8/1/2022.

Filed Date: 8/29/22.

Accession Number: 20220829-5151.

Comment Date: 5 p.m. ET 9/19/22.

Docket Numbers: ER22-2742-000.

Applicants: Rolling Hills Generating, L.L.C.

Description: Rolling Hills Generating, LLC Submits Request for Limited Waiver of Procedural Deadline.

Filed Date: 8/26/22.

Accession Number: 20220826-5226.

Comment Date: 5 p.m. ET 9/16/22.

Docket Numbers: ER22-2743-000.

Applicants: Southwest Power Pool, Inc.

Description: § 205(d) Rate Filing: 4005 Mountrail-Williams Electric & Lower Yellowstone Int Agr to be effective 12/31/9998.

Filed Date: 8/30/22.

Accession Number: 20220830-5004.

Comment Date: 5 p.m. ET 9/20/22.

Docket Numbers: ER22-2744-000.

Applicants: Southwest Power Pool, Inc.

Description: § 205(d) Rate Filing: 1276R28 Evergy Metro NITSA NOA to be effective 9/1/2022.

Filed Date: 8/30/22.

Accession Number: 20220830-5015.

Comment Date: 5 p.m. ET 9/20/22.

Docket Numbers: ER22-2745-000.

Applicants: PJM Interconnection, L.L.C.

Description: § 205(d) Rate Filing: Original ISA, Service Agreement No. 6576; Queue No. AD2-062 to be effective 8/1/2022.

Filed Date: 8/30/22.

Accession Number: 20220830-5052.

Comment Date: 5 p.m. ET 9/20/22.

Docket Numbers: ER22-2746-000.

Applicants: Public Service Company of Colorado.

Description: § 205(d) Rate Filing: 2022-08-30 SPS Transmission Modification to be effective 5/19/2021.

Filed Date: 8/30/22.

Accession Number: 20220830-5058.

Comment Date: 5 p.m. ET 9/20/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 30, 2022.
Debbie-Anne A. Reese,
Deputy Secretary.

[FR Doc. 2022-19135 Filed 9-2-22; 8:45 am]

BILLING CODE 6717-01-P